DEPARTMENT OF HOMELAND SECURITY

Coast Guard

[Docket No. USCG-2018-0141]

National Maritime Security Advisory Committee; Vacancies

AGENCY: U.S. Coast Guard, Department of Homeland Security.

ACTION: Request for applications.

SUMMARY: The U.S. Coast Guard seeks applications for membership on the National Maritime Security Advisory Committee. The National Maritime Security Advisory Committee provides advice and makes recommendations on national maritime security matters to the Secretary of Homeland Security via the Commandant of the United States Coast Guard.

DATES: Completed applications should reach the U.S. Coast Guard on or before May 3, 2018.

ADDRESSES: Applicants should send a cover letter expressing interest in an appointment to the National Maritime Security Advisory Committee that also identifies which membership category the applicant is applying under, along with a resume detailing the applicant's experience via one of the following methods:

• By Email: ryan.f.owens@uscg.mil;

• By Fax: 202-372-8353, ATTN: Mr. Ryan Owens, Alternate Designated Federal Officer; or

• By Mail: Mr. Ryan Owens, National Maritime Security Advisory Committee, Alternate Designated Federal Officer, CG-FAC, U.S. Coast Guard Headquarters, 2703 Martin Luther King Jr. Avenue SE, Washington, DC 20593, Stop 7501, Washington, DC 20593-7501.

FOR FURTHER INFORMATION CONTACT: Mr. Ryan Owens, Commandant (CG-FAC-1), the National Maritime Security Advisory Committee Alternate Designated Federal Officer, U.S. Coast Guard Headquarters, 2703 Martin Luther King Jr. Avenue SE, Washington, DC 20593, Stop 7501, Washington, DC 20593-7501, ryan.f.owens@uscg.mil, Phone: 202-372-1108, Fax: 202-372-8353.

SUPPLEMENTARY INFORMATION: The National Maritime Security Advisory Committee is a Federal Advisory Committee, which operates under the provisions of the Federal Advisory Committee Act, 5 U.S.C. Appendix. The National Maritime Security Advisory Committee advises, consults with, and makes recommendations to the Secretary via the Commandant of the Coast Guard on matters relating to national maritime security.

The full Committee normally meets at least two times per fiscal year. Working group meetings and teleconferences are held more frequently, as needed. The Committee may also meet for extraordinary purposes.

Each National Maritime Security Advisory Committee member serves a term of office up to 3 years. Members may serve a maximum of two consecutive terms. All members serve without compensation from the Federal Government; however, they may receive travel reimbursement and per diem.

We will consider applications for 16 representative positions listed below that will become vacant on June 1, 2018 and December 31, 2018.

Applicants with experience in the following sectors of the marine transportation industry with at least five years of practical experience in their field are encouraged to apply:

• At least four individuals who represents the interests of the port authorities. Two become vacant on June 1, 2018 and two become vacant on December 31, 2018;

• at least three individuals who represents the interests of the vessel owners or operators. One becomes vacant on June 1, 2018 and two become vacant on December 31, 2018;

• at least two individuals who represents the interests of the facilities owners/operators. Both become vacant on December 31, 2018;

• at least two individuals who represents the interests of the terminal owners/operators. Both become vacant on December 31, 2018;

• at least two individuals who represents the interests of the maritime labor organizations. One becomes vacant on June 1, 2018 and one becomes vacant on December 31, 2018;

• at least two individuals who represents the interests of the maritime industry. One becomes vacant on June 1, 2018 and one becomes vacant on December 31, 2018;

• at least one individual who represents the academic community. One becomes vacant on December 31, 2018.

Due to the nature of National Maritime Security Advisory Committee business, National Maritime Security Advisory Committee members are required to apply for, obtain, and maintain a government national security clearance at the Secret level. The U.S. Coast Guard will sponsor and assist candidates with this process.

Registered lobbyists are not eligible to serve on Federal Advisory Committees in an individual capacity. See “Revised Guidance on Appointment of Lobbyist to Federal Advisory Committees, Boards and Commissions” (79 FR 47482, August 13, 2014). Registered lobbyists are lobbyists as defined in Title 2 U.S.C. 1602 who are required by Title 2 U.S.C. 1603 to register with the Secretary of the Senate and the Clerk of the House of Representatives.

The Department of Homeland Security does not discriminate in selection of committee members on the basis of race, color, religion, sex, national origin, political affiliation, sexual orientation, gender identity, marital status, disability and genetic information, age, membership in an employee organization, or any other non-merit factor. The Department of Homeland Security strives to achieve a widely diverse candidate pool for all of its recruitment actions.

If you are interested in applying to become a member of the committee, send your complete application package to Mr. Ryan Owens, Alternate Designated Federal Officer of the National Maritime Security Advisory Committee via one of the transmittal methods in the ADDRESSES section by the deadline in the DATES section of this notice. All email submittals will receive email receipt confirmation.

Dated: March 28, 2018.
Jason D. Neubauer,
Captain, U.S. Coast Guard, Acting Director of Inspections and Compliance.

[FR Doc. 2018-06745 Filed 4-2-18; 8:45 am]

BILLING CODE 9110-04-P